DEPARTMENT OF LABOR

Office of the Secretary

Submission for OMB Review: Comment Request

November 29, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Bureau of Labor Statistics (BLS), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: New collection of information.

Title: International Training Application.

OMB Number: 1220-0NEW.

Type of Response: Reporting.

Frequency: On occasion.

Affected Public: Individuals or households.

Estimated Number of Respondents: 100.

Annual Responses: 100.

Average Response Time: 20 minutes.

Total Annual Burden Hours: 34.

Total Annualized capital/startup costs: $0.

Total Annual Costs (operating/maintaining systems or purchasing services): $0.

Description: The purpose of this request for review is for the Bureau of Labor Statistics (BLS) to obtain clearance to collect information to support the BLS international training program. This collection will allow the BLS to collect the information needed to register trainees for the international training programs.

Darrin A. King,
Acting Departmental Clearance Officer.

[FR Doc. E6-20615 Filed 12-5-06; 8:45 am]

BILLING CODE 4510-23-P